DEPARTMENT OF HEALTH AND HUMAN SERVICES

Administration for Children and Families

Submission for OMB Review; Comment Request.

Title: Project 1099.

OMB No.: 0970-0183.

Description: A voluntary program that provides state child support enforcement agencies, upon their request, access to the earned and unearned income information reported to the Internal Revenue Service (IRS) by employers and financial institutions. IRS 1099 information is used to locate noncustodial parents and to verify income and employment.

Respondents: State IV-D Programs.

Annual Burden Estimates
Instrument | Number of respondents | Number of responses per respondent per year | Average burden hours per response | Total burden hours
Project 1099 | 54 | 12 | 2 | 1,296

Estimated Total Annual Burden Hours: 1,296 hours.

Additional Information: Copies of the proposed collection may be obtained by writing to the Administration for Children and Facilities, Office of Information Services, 370 L'Enfant Promenade, SW., Washington, DC 20447, Attn: ACF Reports Clearance Officer. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project,725 17th Street, NW., Washington, DC 20503, Attn: Desk Officer for ACF, E-mail address: Katherine_t.tastrich@eop.gov.

Dated: December 22, 2004.
Robert Sargis,
Reports Clearance Officer.

[FR Doc. 04-28464 Filed 12-28-04; 8:45 am]

BILLING CODE 4184-01-M